DEPARTMENT OF HEALTH AND HUMAN SERVICES

Office of Inspector General

Program Exclusions: October 2004

AGENCY: Office of Inspector General, HHS.

ACTION: Notice of program exclusions.

During the month of October 2004, the HHS Office of Inspector General imposed exclusions in the cases set forth below. When an exclusions is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject name | Address | Effective date
PROGRAM-RELATED CONVICTIONS
ARMON, BOBBY | MILWAUKEE, WI | 11/18/2004
ARNOLD, RODELL | TOLEDO, OH | 11/18/2004
ARRUDA, CARMEN | ISSAQUAH, WA | 11/18/2004
BAUMAN, DAVID | HOUSTON, TX | 11/18/2004
BROWN, AUWANA | FRESNO, CA | 11/18/2004
CABRERA, MARCO | MIAMI, FL | 11/18/2004
CARTER, JERRY | DYERSBURG, TN | 11/18/2004
CASIANO, ROSARIO | ROSEMEAD, CA | 11/18/2004
CORBETT, KERMIS | ELGIN, SC | 11/18/2004
CORTES, FRANCISCO | HIALEAH, FL | 11/18/2004
DAY, APRIL | LOS ANGELES, CA | 11/18/2004
DELEON, VANESSA | HAWTHORNE, CA | 11/18/2004
ELBAGDADI, HAZEM | PETERSBURG, VA | 11/18/2004
ENCINAS, BENJAMIN | TUCSON, AZ | 11/18/2004
FATEMI, MOHAMMAD | DUNKIRK, MD | 11/18/2004
FINDLEY, KATHERINE | LAKEWOOD, CO | 11/18/2004
FORD, FRED | EGLIN AFB, FL | 11/18/2004
FREITAS, JOHN | CARTNEGE, MO | 11/18/2004
GONZALEZ, GIORDY | MIAMI, FL | 11/18/2004
GONZALEZ, MILAGROS | MIAMI, FL | 11/18/2004
GROCE, TINA | GRANVIEW, OH | 11/18/2004
HARRIS, THOMAS | POTEAU, OK | 11/18/2004
HEDRINGTON, HERBERT | FRESNO, CA | 11/18/2004
HOLTHAUS, CHARLES | NEW ORLEANS, LA | 11/18/2004
JACOBS, ROZA | COLUMBUS, OH | 11/18/2004
JULIUS, RYAN | YORK, PA | 11/18/2004
KERSEY-THOMAS, CHRISTINE | N AUGUSTA, SC | 11/18/2004
LEUTTERS, FLORENCE | HICKSVILLE, NY | 11/18/2004
LOZANO, CARRIE | FRESNO, CA | 11/18/2004
MALDONADO, MARIA | LOS ANGELES, CA | 11/18/2004
NEIL, TAMMY | CARTHAGE, MO | 11/18/2004
OSSEI, HARRY | DULUTH, MN | 11/18/2004
OYENUSI, ADEBOWALE | MAPLEWOOD, NJ | 11/18/2004
PARKER, MARILYN | MESA, AZ | 11/18/2004
PARTON, BRENDA | LAKEWOOD, WA | 11/18/2004
PATEL, DIPAKKUMAR | MIDLAND, TX | 11/18/2004
PETRILLO, LOUIS | MIAMI, FL | 11/18/2004
HILLIPS, KAWAII | MARKS, MS | 11/18/2004
RECAIDO, BERT | CARSON, CA | 11/18/2004
RECAIDO, EVELYN | CARSON, CA | 11/18/2004
ROBISON, TROY | ORANGE PARK, FL | 5/3/2004
SALINAS, CARLOS | DENVER, CO | 11/18/2004
SCHULTZ, DENISE | GROVE CITY, OH | 11/18/2004
SHELHAMMER, PAUL | PITTSBURGH, PA | 11/18/2004
SMITH, RANDALL | OREGON CITY, OR | 11/18/2004
STECKLER, SCOTT | ROCKVILLE, MD | 11/18/2004
STRICKMAN, IRA | PENSACOLA, FL | 11/18/2004
TITH, LAURA | MESA, AZ | 8/9/2004
TUCKER, DAVID | BRONX, NY | 11/18/2004
VELEZ, SAMUEL | BROOKLYN, NY | 11/18/2004
WALBORN, TODD | BIRMINGHAM, AL | 11/18/2004
WATERHOUSE, DEA | FAIRHAVEN, VT | 11/18/2004
WATTS, WILLIAM | SEMINOLE, OK | 11/18/2004
WEISS, BETH | COLLINGSWOOD, NJ | 11/18/2004
WELCH, DARRYL | FOX LAKE, WI | 11/18/2004
FELONY CONVICTION FOR HEALTH CARE FRAUD
DORRIN, ROBIN | ST LOUIS, MO | 11/18/2004
GUTIERREZ, JEREMY | HOUSTON, TX | 11/18/2004
KREUTZER, DONALD | CLARKSVILLE, MO | 11/18/2004
LAWTON, JANICE | WARREN, OH | 11/18/2004
MORAN, KELLIE | W. MONROE, NY | 11/18/2004
MURGATROYD, ROBERT | ATLANTA, GA | 11/18/2004
SAVAGE, LORI | STRONG, ME | 11/18/2004
STUBBS, PAMELA | RICHMOND, IN | 11/18/2004
TORRES, TIA | PELLA, IA | 11/18/2004
WINTERS, MARIANNE | TUMWATER, WA | 11/18/2004
YEX, ANITA | BRUNSWICK HILLS, OH | 11/18/2004
FELONY CONTROL SUBSTANCE CONVICTION
ATKINSON, TAMMY | ANTHONY, FL | 11/18/2004
BARTOLO, KATHRYN | SANFORD, MI | 11/18/2004
BRILL, LAURA | DECATUR, GA | 11/18/2004
ENNIS, LORI | SPARTA, MO | 11/18/2004
HOSKINS, TAMMY | SPRINGFIELD, IL | 11/18/2004
JUMPER, DONNA | BOONEVILLE, MS | 11/18/2004
MARTIN, TRAVIS | INDEPENDENCE, WV | 11/18/2004
OTINIANO, JOSHUA | ORLANDO, FL | 11/18/2004
PATTERSON, BARBARA | WINSTON, GA | 11/18/2004
ROBERSON, ELLICK | PHOENIX, AZ | 5/3/2004
SIGNORINE, LOUIS | GILFORD, NH | 11/18/2004
SUGGS, WINDY | LORIS, SC | 11/18/2004
TALBERT, TONY | ORLANDO, FL | 11/18/2004
VANDALL, TAMMY | BELTON, TX | 11/18/2004
WILDE, LONA | PORT ST LUCIE, FL | 11/18/2004
PATIENT ABUSE/NEGLECT CONVICTIONS
BRYANT, THOMAS | HIBBING, MN | 11/18/2004
FINKEL, BRIAN | FLORENCE, AZ | 11/18/2004
FLORES, FELIX | MORENO VALLEY, CA | 11/18/2004
FRAZIER, WILLIAM | PETAL, MS | 11/18/2004
GONDREZ, JACKIE | ST CLOUD, MN | 11/18/2004
HARMON, WAYNE | NEW WATERFORD, OH | 11/18/2004
HOFFART, JAMES | LONG BEACH, CA | 11/18/2004
HOWARD, COLIN | SAN FRANCISCO, CA | 11/18/2004
HOWARD, LILLIE | SHREVEPORT, LA | 11/18/2004
JOHNSTON, WENDELL | SARDIS, MS | 11/18/2004
LAMM, TAMARA | PANAMA CITY, FL | 11/18/2004
MCCARTY-ROSARIO, DONNA | VALLEJO, CA | 11/18/2004
PALKO, DEBORAH | SURGOINSVILLE, TN | 11/18/2004
PLOURDE, STEVEN | EUREKA, CA | 11/18/2004
SEARL, PENNY | ONEIDA, NY | 11/18/2004
SHUKLA, PARAM | WAKEFIELD, MA | 11/18/2004
SMITH, KEYONNA | FLINT, MI | 11/18/2004
STANTON, JOSEPH | THORNTON, CO | 11/18/2004
TAMBER, SATWINDER | COVINA, CA | 11/18/2004
TARDAGUILA, GREGORY | TORRANCE, CA | 11/18/2004
VAN OORT, CHRISTINE | MT PLEASANT, IA | 11/18/2004
WHITEHEAD, LYNN | SMITHVILLE, TN | 11/18/2004
WISEMAN, RUSSELL | MEMPHIS, TN | 11/18/2004
ZAIDI, MOSHIN | HOFFMAN ESTATES, IL | 11/18/2004
CONVICTION FOR HEALTH CARE FRAUD
WHEELER, ROBERT | WATERLOO, IA | 11/18/2004
LICENSE REVOCATION/SUSPENSION/SURRENDERED
A HEALTH & STRESS FREE | AVENTURA, FL | 11/18/2004
ABBOTT, KARA | CYPRESS, TX | 11/18/2004
AIMONE, CONNIE | BENTON CITY, WA | 11/18/2004
AL-GHRAOUI, FADI | FORT LAUDERDALE, FL | 11/18/2004
ALLEN, TOBIE | COLUMBIA, TN | 11/18/2004
AMENS, JOHN | TACOMA, WA | 11/18/2004
ANAST, SUSAN | LAKE HAVASU, AZ | 11/18/2004
ARMSTRONG, SHAWN | BONIFAY, FL | 11/18/2004
BAKER, CYNDIE | ORANGE PARK, FL | 11/18/2004
BAKER, JOHN | LARGO, FL | 11/18/2004
BARBANELL, JOANNE | PRESCOTT, AZ | 11/18/2004
BARNETT, BELINDA | ALMO, KY | 11/18/2004
BEGALLIA, DEBI | TACOMA, WA | 11/18/2004
BENDERS, CLARA | DORCHESTER, MA | 11/18/2004
BLALOCK, KERRY | TOONE, TN | 11/18/2004
BLENKLE, ELIZABETH | INDIAN ROCKS BEACH, FL | 11/18/2004
BOESE, DEBORAH | CAPE CORAL, FL | 11/18/2004
BRASWELL, KATHRYN | PORT CHARLOTTE, FL | 11/18/2004
BRIDGES, CONNIE | COLVILLE, WA | 11/18/2004
BUMGARDNER, CHRISTIE | BAXTER, KY | 11/18/2004
BURKS, LAUREN | LOUISVILLE, KY | 11/18/2004
CALDWELL, PATRICIA | LEHIGH ACRES, FL | 11/18/2004
CAMPOSTRINI, KATHERINE | OROVILLE, CA | 11/18/2004
CATALANELLO, MARK | MISSOULA, MT | 11/18/2004
CHANDRA, PEGGY | MELBOURNE, FL | 11/18/2004
CLAGHORN, PEGGY | WEST RICHLAND, WA | 11/18/2004
COBB, KAREN | OCALA, FL | 11/18/2004
COCHRANE, CATHERINE | DELAND, FL | 11/18/2004
COMPTON, TERRI | MONTEVALLO, AL | 11/18/2004
CONNER, FREDERICK | YAKIMA, WA | 11/18/2004
COPLEY, CRYSTAL | LOUISVILLE, KY | 11/18/2004
COTTENGAIN, TONY | LAKELAND, FL | 11/18/2004
CURRY, DAVID | PARKVILLE, MD | 11/18/2004
CWALINA, CHARLENE | ATHOL, MA | 11/18/2004
DANIEL, JEAN | LEHIGH ACRES, FL | 11/18/2004
DECKER, MARIA | STOCKTON, CA | 11/18/2004
DECKER, RICHARD | JONESBOROUGH, TN | 11/18/2004
DESTEFANO, LISA | WEST MIFFLIN, PA | 11/18/2004
DICKINSON, HELEN | SARASOTA, FL | 11/18/2004
DIONISIO, RENATO | LOS ANGELES, CA | 11/18/2004
DORSEY, LARRY | AUBURN, CA | 11/18/2004
DWYER, DAN | BOISE, ID | 11/18/2004
EARLY, JAMES | NEW MILFORD, CT | 11/18/2004
EDWARDS, CYNTHIA | JONESVILLE, VA | 11/18/2004
ELMEER, GORDON | DERRY, NH | 11/18/2004
ENNIS, ANNA-DALE | YULEE, FL | 11/18/2004
ESGUERRA, CORNELIO | MESA, AZ | 11/18/2004
FARIN, ANNA | MIAMI BEACH, FL | 11/18/2004
FINLEY, JANE | PADUCAH, KY | 11/18/2004
FINNIE, AMANDA | MADISONVILLE, KY | 11/18/2004
FOUGHTZ, ROBIN | ELK GROVE, CA | 11/18/2004
FULGHUM, ROBERTA | BAILEY, NC | 11/18/2004
GALLIEN, MAUDIE | NORTHPORT, AL | 11/18/2004
GEORGE, GINGER | BIRMINGHAM, AL | 11/18/2004
GERKIN, VICKI | MITCHELL, IN | 11/18/2004
GERVAIS, TINA | OWENS CROSS RDS, AL | 11/18/2004
GOLDSMITH, WILLIAM | LEXINGTON, KY | 11/18/2004
GOULD, CAROL | NEW IPSWITCH, NH | 11/18/2004
GREEN, AARON | SPOKANE, WA | 11/18/2004
GUINN, LISA | SPRINGFIELD, IL | 11/18/2004
HANSHEW, EVELYN | RENTON, WA | 11/18/2004
HARKONEN, JOHN | LOUISVILLE, KY | 11/18/2004
HARRIS, FITZ | MIAMI, FL | 11/18/2004
HART-TOWN, RAGEN | SNOHOMISH, WA | 11/18/2004
HERMOSURA, RICARDO | SUNNYVALE, CA | 11/18/2004
HOGATE, MARY | MENDOTA, IL | 11/18/2004
HOLDEN, JEFFREY | LATROBE, PA | 11/18/2004
HOMME, JULIE | KENNEWICK, WA | 11/18/2004
HORNSBY, DARIN | LOVELAND, OH | 11/18/2004
JENSEN, MARGARET | KELOS, WA | 11/18/2004
JOHNSON, HERBERT | MAYO, FL | 11/18/2004
JOHNSON, JOANNE | CLEARWATER, FL | 11/18/2004
JOHNSTON, TERRI | TYNER, KY | 11/18/2004
JONES, AWANDA | WESTCHESTER, IL | 11/18/2004
JONES, VICKI | HARRDOSBURG, KY | 11/18/2004
JORDAN, LISA | SPRING HOPE, NC | 11/18/2004
KARTY, JACQUELIN | WAURIKA, OK | 11/18/2004
KENT, AMY | MIAMI, FL | 11/18/2004
KIDDER, CHRISTINE | GLENDALE, CA | 11/18/2004
KING, DORA | SEYMOUR, TN | 11/18/2004
KING, LISA | CAIRO, NY | 11/18/2004
KING, PRESTON | JENNINGS, FL | 11/18/2004
KINNEY, JOSEPH THOMAS | ORLAND, FL | 11/18/2004
KIPER, KEVIN | PAWLING, NY | 11/18/2004
KNOX, DENISE | MCKEESPORT, PA | 11/18/2004
KOTECKI, LISA | WATERFORD, CT | 11/18/2004
KOTLER, JOSEPH | AVENTURA, FL | 11/18/2004
KRUSE, OLGAELENA | BUSHNELL, FL | 11/18/2004
LAMBERT, MARTHA | OSWEGO, NY | 11/18/2004
LEMAK, MARILYN | DWIGHT, IL | 11/18/2004
LEMINGS, SHELLEY | CLINTON, AR | 11/18/2004
LEPAGE, LINDA | GLOUCESTER, MA | 11/18/2004
LIDDLE, KIMBERLY | BOWLING GREEN, KY | 11/18/2004
LITTERAL, AMY | ASHLAND, KY | 11/18/2004
LOUQUE, CATHERINE | HUNTSVILLE, AL | 11/18/2004
MAISEL, LINDA | RENO, NV | 11/18/2004
MANZI, DEBORAH | NORTH HAVEN, CT | 11/18/2004
MARLOW, JESSICA | JELLICO, TN | 11/18/2004
MARLOW, KATHLEEN | WELLINGTON, FL | 11/18/2004
MARSHALL, DONNA | NEWTON, MA | 11/18/2004
MARTIN, BRANT | NORTH PORT, FL | 11/18/2004
MARTINSON, DEBORAH | NEW MILFORD, CT | 11/18/2004
MASON, JEFFREY | VENTURA, CA | 11/18/2004
MATTE, KIMBERLY | HENDERSONVILLE, NC | 11/18/2004
MCELRATH, MITCHALENA | WHITEVILLE, NC | 11/18/2004
MEYER, MELISSA | SOMERSET, CA | 11/18/2004
MIDGETTE, JENNIFER | ROANOKE RAPIDS, NC | 11/18/2004
MIKHAIL, PETER | ELMONT, NY | 11/18/2004
MILLS, ANNE | PITTSBURGH, PA | 11/18/2004
MIMNAGH, JANICE | WINTER HAVEN, FL | 11/18/2004
MISHRA, RAJENDRA | DOUGLASTON, NY | 11/18/2004
MOODY, JACKI | LOUISVILLE, KY | 11/18/2004
MOORE, KEVIN | SHASTA, CA | 11/18/2004
MOORE, THOMAS | CORBIN, KY | 11/18/2004
MOSER, DIANA | TAHLEQUAH, OK | 11/18/2004
MOUL, MARIANNE | DOWNINGTOWN, PA | 11/18/2004
MUELLER, SUSAN | PHOENIX, AZ | 11/18/2004
MUNOZ, ESTELLA | CHANDLER, AZ | 11/18/2004
NELSON, PATRICIA | GAINESVILLE, FL | 11/18/2004
NESTER, SHANE | MESA, AZ | 11/18/2004
NICHOLS, JOHN | TACOMA, WA | 11/18/2004
NUNN, AMY | NEW TAZEWELL, TN | 11/18/2004
O'NEILL, LISA | WAKEFIELD, MA | 11/18/2004
OLSEN, PAM | PHILADELPHIA, PA | 11/18/2004
ORT, CHARLES | HACKETTSTOWN, NJ | 11/18/2004
OSTROM, MARSHA | MILFORD, MA | 11/18/2004
PACE, MIMI | BRADENTON, FL | 11/18/2004
PADGETT, LISA | BONIFAY, FL | 11/18/2004
PANICO, BARBARA | SYRACUSE, NY | 11/18/2004
PANTALL, CARL | SUMMERFIELD, FL | 11/18/2004
PASSER, ANNETTE | SCOTTSDALE, AZ | 11/18/2004
PECK, CHRISTINE | HEMET, CA | 11/18/2004
PELCZARSKI, JUDITH | HOLYOKE, MA | 11/18/2004
PENDZICK, RICK | DANBURY, CT | 11/18/2004
PEREZ, LUIS | CHULA VISTA, CA | 11/18/2004
PETERSON, CHERYL | FARRAGUT, IA | 11/18/2004
PETROCELLI, LORRAINE | BRISTOL, CT | 11/18/2004
PHILLIPS, SHERRY | TUBA CITY, CA | 11/18/2004
PITTMAN, SHANNON | WAYNESBORO, PA | 11/18/2004
POLITIS, JOANNA | CHARLOTTE, NC | 11/18/2004
RAM, RISHI | MODESTO, CA | 11/18/2004
REDDING, JENIFER | CONESUS, NY | 11/18/2004
REEVES, JENNIFER | TROUTMAN, NC | 11/18/2004
RHODES, MICHELLE | BUTLER, PA | 11/18/2004
RILEY, DONNA | NEW BEDFORD, MA | 11/18/2004
RODERICK, PAULA | NORTON, MA | 11/18/2004
RONEY, MICHELE | NORTH VERSAILLES, PA | 11/18/2004
SANTANA, NANCY | MIAMI, FL | 11/18/2004
SARMIENTO, BENJAMIN | VALLEJO, CA | 11/18/2004
SAYRE, DEIDRE | LUCEDALE, MS | 11/18/2004
SEBASTIAN-GUANDOLO, CYNTHIA | HOLLYWOOD, FL | 11/18/2004
SELBERG, CAROL | YAKIMA, WA | 11/18/2004
SHAMP, ANNMARIE | W PALM BEACH, FL | 11/18/2004
SHEFFIELD, ALTON | PORT ORANGE, FL | 11/18/2004
SIC-CUA, KAREN | BALTIMORE, MD | 11/18/2004
SIMAY, DOUGLAS | LA JOLLA, CA | 11/18/2004
SLOAN, ELLA | SHARPSBURG, KY | 11/18/2004
SMITH, CHAD | ALTAMONTE SPRINGS, FL | 11/18/2004
SPENCER, LASHAWNDA | COCOA, FL | 11/18/2004
STAINBACK, PAMELA | OXFORD, NC | 11/18/2004
STANDARD, TAMMY | SALISBURY, NC | 11/18/2004
STECHER, KARL | GREENWOOD VILLAGE, CO | 11/18/2004
STEEL, SAMUEL | ELPASO, TX | 11/18/2004
STEINBERG, ANDREA | BROCKTON, MA | 11/18/2004
STEPHENSON, JEFFREY | S POINT, OH | 11/18/2004
STEPHENSON, SHARON | CLAYTON, NC | 11/18/2004
STODDARD, TAMMY | REW, PA | 11/18/2004
SUMMERS, PATSY | STEVENSON, AL | 11/18/2004
TEBEAU, HOLLY | SAVANNAH, GA | 11/18/2004
THIEL, GREGORY | HENDERSON, NV | 11/18/2004
TRANELL, DENISE | HUNLOCK CREEK, PA | 11/18/2004
TUCKER, ANGELA | NEW CITY, NY | 11/18/2004
TUCKER, LISA | BROOKLET, GA | 11/18/2004
TURNER, FRANK | WARRENTON, VA | 11/18/2004
VANCE, DEBRAH | FAYETTEVILLE, NC | 11/18/2004
VASQUEZ, ANGELA | FRESNO, CA | 11/18/2004
VAUGHAN, DARA | SEDALIA, KY | 11/18/2004
VERBECK, MELISSA | TAYLORSVILLE, KY | 11/18/2004
VILLAFANE, KATHRYN | SNOW CAMP, NC | 11/18/2004
WALSTON, DENNIS | LAS VEGAS, NV | 11/18/2004
WESTLAKE, LAURIE | PORT ANGELES, WA | 11/18/2004
WHITE, CHARLIETTE | LAKE CITY, FL | 11/18/2004
WILLIAMS, JEROME | GRANADA HILLS, CA | 11/18/2004
WOOD, JOSHUA | COLLEGE PLACE, WA | 11/18/2004
WOOLSON, SUSAN | WORCESTER, MA | 11/18/2004
YOST, DAVID | SPARKS, NV | 11/18/2004
YOUNG, KIMBERLY | BOWLING GREEN, KY | 11/18/2004
ZHAO, CHUN | EUREKA, CA | 11/18/2004
FEDERAL/STATE EXCLUSION/SUSPENSION
KUMAR, DAVID | UNION, NJ | 11/18/2004
PARIVAN INVALID COACH SERVICES | EDISON, NJ | 11/18/2004
PATEL, ASHOK | EDISON, NJ | 11/18/2004
TULSANIA, NITAN | BASKING RIDGE, NJ | 11/18/2004
FRAUD/KICKBACKS/PROHIBITED ACTS/SETTLEMENT AGREEMENTS
KUMAR, ANIL | MONMOUTH JUNCTION, NJ | 9/21/2004
KUMAR, SAROJ | MONMOUTH JUNCTION, NJ | 9/21/2004
OWNED/CONTROLLED BY CONVICTED ENTITIES
BFK TRANSIT, INC | MILWAUKEE, WI | 11/18/2004
EMMETT FOOT & ANKLE CLINIC | EMMETT, ID | 11/18/2004
KAZEM S SADATI DDS, PA | MIAMI LAKES, FL | 11/18/2004
MEDICAL SOUTH, INC | COLUMBUS, MS | 11/18/2004
ONTARIO FOOT & ANKLE CLINIC | ONTARIO, OR | 11/18/2004
PALM BEACH TOTAL HEALTH CARE, INC | BOYNTON BEACH, FL | 11/18/2004
UNIVERSAL PLACEMENT, INC | LOS ANGELES, CA | 11/18/2004
DEFAULT ON HEAL LOAN
CONLEY, PAMELA | NEW ORLEANS, LA | 9/14/2004
FARHAT, HASSAN | STATEN ISLAND, NY | 11/18/2004
LAM, THE | SAN JOSE, CA | 11/18/2004
SHEEHY, DANIEL | MIDDLETOWN, CA | 11/18/2004

Dated: November 3, 2004.
Katherine B. Petrowski,
Director, Exclusions Staff, Office of Inspector General.

[FR Doc. 04-25251 Filed 11-12-04; 8:45 am]

BILLING CODE 4150-04-P